DEPARTMENT OF ENERGY

Federal Energy Regulatory Commission

[Docket No. CP01-5-004]

Algonquin Gas Transmission Company; Notice of Compliance Filing

October 9, 2003.

Take notice that on October 1, 2003, Algonquin Gas Transmission Company (Algonquin) tendered for filing as part of its FERC Gas Tariff, Fourth Revised Volume No. 1, the tariff sheets included in Appendix A to the filing, proposed to be effective: (1) On November 1, 2003, or, if service does not commence on November 1, 2003, such later date as the facilities constructed for the HubLine Mainline are placed into service, and (2) on April 1, 2004 for certain sheets previously filed, as designated in Appendix A.

Algonquin asserts that the purpose of this filing is to comply with the Commission's Orders issued in the above-captioned docket on December 21, 2001, as amended June 4, 2002, in which the Commission approved Algonquin's amended application for a certificate of public convenience and necessity authorizing the construction of certain pipeline facilities including the facilities referred to as the HubLine Mainline. Algonquin states that the revised tariff sheets reflect the rates for the HubLine Mainline service as approved by the Commission, as well as removal of all references to the Fore River Lateral from the rate sheets, Rate Schedule AFT-CL, and the form of service agreement. Specifically with regard to the HubLine Mainline rate, the tariff sheets reflect a maximum reservation rate of $1.8607 per Dth, or $0.0612 per Dth on a 100% load factor basis, as approved by the Commission.

Algonquin states that copies of its filing have been mailed to all affected customers of Algonquin and interested state commissions.

Any person desiring to protest said filing should file a protest with the Federal Energy Regulatory Commission, 888 First Street, NE., Washington, DC 20426, in accordance with § 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the “eLibrary” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the eLibrary (e-Filing) link.

Protest Date: October 16, 2003.

Magalie R. Salas,
Secretary.

[FR Doc. E3-00252 Filed 11-14-03; 8:45 am]

BILLING CODE 6717-01-P